DEPARTMENT OF JUSTICE

Notice of Lodging of Consent Decree Under the Comprehensive Environmental Response, Compensation, and Liability Act of 1980

Notice of hereby given that on September 22, 2004 a proposed Consent Decree in United States v. Chief Consolidated Mining Company, et. al., an action under Sections 107 and 113 of the Comprehensive Environmental Response, Compensation, and Liability Act of 1980 (“CERCLA”), as amended, 42 U.S.C. 9607 and 9613, was lodged with the United States District Court for the District of Utah, Case No. 2:04CV00891 BSJ.

In this action, the United States sought the recovery of costs incurred and to be incurred by the United States in response to releases or threatened releases of hazardous substances at and from the Eureka Mills NPL Site located in Eureka, Utah (the “Site”). The United States alleged that the Chief Consolidated Mining Company (“Chief ”) was liable under CERCLA Section 107(a)(1) and (2), 42 U.S.C. 9607(a)(1) and (2), as a past owner and operator of a portion of the Site at the time of disposal and as a present owner of a portion of the Site upon which hazardous substances have been released, for those response costs set forth in CERCLA Section 107(a)(4)(A)-(D), 42 U.S.C. 9607(a)(4)(A)-(D).

The Chief settlement is based on the company's limited financial resources and contains a confession of judgment in favor of EPA in the amount of sixty million dollars ($60,000,000.00) which may be satisfied through the sale of Chief real estate holdings together with future profits, if any, and the proceeds from any insurance recovery. Additionally, the Chief Decree provides for various in-kind contributions of materials like clean water and soil necessary to implement the clean up and allows EPA to construct permanent repositories to contain contaminated soils on Chief's property.

The Department of Justice will receive for a period of thirty (30) days from the date of this publication comments relating to the Consent Decree. Comments should be addressed to the Assistant Attorney General, Environment and Natural Resources Division, P.O. Box 7611, U.S. Department of Justice, Washington, DC 20044-7611, and should refer to United States, v. Chief Consolidated Mining Company, et. al., DJ# 901-11-3-07993/2.

The Consent Decree may be examined at U.S. EPA Region 8, 999 18th Street, Suite 500, Denver, Colorado, 80202. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.25 payable to the U.S. Treasury (excluding appendices).

Robert Brook,
Assistant Chief, Environmental Enforcement Section, Environment and Natural Resources Division.

[FR Doc. 04-23101 Filed 10-13-04; 8:45 am]

BILLING CODE 4410-IS-M